DEPARTMENT OF ENERGY

Federal Energy Regulatory Commission

Notice of Application to Amend License, and Soliciting Comments, Motions to Intervene, and Protests

August 8, 2000.

a. Application Type: Application to Amend License for the East Juliette Project.

b. Project No.: P-7019-050.

c. Date Filed: March 1, 2000.

d. Applicant: Eastern Hydroelectric Corporation.

e. Name of Project: East Juliette Project.

f. Location: The Project is located on the Ocmulgee River in Monroe County, GA.

g. Filed Pursuant to: Federal Power Act, 16 U.S.C. 791(a)-825(r).

h. Applicant Contact: Robert L. Rose, Eastern Hydroelectric Corporation, P.O. Box 35236, Sarasota, FL 34242. Tel: (941) 312-0303.

i. FERC Contact: Any questions on this notice should be addressed to Jarrad Kosa at (202) 219-2831.

j. Deadline for filing comments and/or motions: 30 days from the issuance date of this notice.

All documents (original and eight copies) must be filed with: David P. Boergers, Secretary, Federal Energy Regulatory Commission, 888 First Street, NW., Washington, DC 20426.

Please include the project number (P-7019-050) on any comments or motions filed.

k. Description of Filing: Eastern Hydroelectric Corporation proposes to increase the total installed capacity at the project. The proposed activities include the installation of a 1,200 kW generator and minor construction activities on the west side of the East Juliette Dam. The proposed upgrade would increase the net project capacity from 643 kW to 1843 kW, and the net hydraulic capacity of the project would increase from 268 cfs to 971 cfs.

1. Location of the Application: A copy of the application is available for inspection and reproduction at the Commission's Public Reference Room, located at 888 First Street, NE., Room 2A, Washington, DC 20426, or by calling (202) 208-1371. This filing may also be viewed on the internet at http://www.ferc.fed.us/online/rims.htm [call (202) 208-2222 for assistance]. A copy is also available for inspection and reproduction at the address in item h above.

m. Individuals who wish to be included in the Commission's mailing list should so indicate by writing to the Secretary of the Commission.

Comments, Protests, or Motions to Intervene—Anyone may submit comments, a protest, or a motion to intervene in accordance with the requirements of the Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMNEDATIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-20485 Filed 8-11-00; 8:45 am]

BILLING CODE 6717-01-M